DEPARTMENT OF DEFENSE

Office of the Secretary

[Transmittal No. 25-23]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-23, Policy Justification, and Sensitive of Technology.

Dated: January 12, 2026.
Stephanie J. Bost,
Alternate OSD Federal Register Liaison Officer, Department of Defense.

BILLING CODE 6001-FR-P

BILLING CODE 6001-FR-C

Transmittal No. 25-23

Notice of Proposed Issuance of Letter of Offer Pursuant to Section 36(b)(1) of the Arms Export Control Act, as amended

(i) Prospective Purchaser: Government of the Czech Republic

(ii) Total Estimated Value:

Major Defense Equipment * | $ 0
Other | $181 million
TOTAL | $181 million

Funding Source: National Funds

(iii) Description and Quantity or Quantities of Articles or Services under Consideration for Purchase:

Major Defense Equipment (MDE):

None

Non-Major Defense Equipment:

The following non-MDE items will be included: AN/PYQ-10A(C) simple key loaders; AN/PRC-160, AN/PRC-163, and AN/PRC-167 radios; RF-300M-DL(C) small secure data links and support equipment; spare parts; United States (U.S.) Government and contractor technical engineering, logistics, and personnel services; and other related elements of logistics and program support.

(iv) Military Department: Army (EZ-B-UEZ)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: May 5, 2025

* as defined in Section 47(6) of the Arms Export Control Act.

POLICY JUSTIFICATION

Czech Republic—Communications Equipment

The Government of the Czech Republic has requested to buy AN/PYQ-10A(C) simple key loaders; AN/PRC-160, AN/PRC-163, and AN/PRC-167 radios; RF-300M-DL(C) small secure data links and support equipment; spare parts; U.S. Government and contractor technical engineering, logistics, and personnel services; and other related elements of logistics and program support. The estimated total program cost is $181 million.

This proposed sale will support the foreign policy goals and national security objectives of the U.S. by improving the security of a NATO Ally that is a force for political stability and economic progress in Europe.

The proposed sale will support the ongoing transformation of the Czech Armed Forces into a modern military that is properly trained, well equipped, and interoperable with U.S. and other NATO forces. The procurement would facilitate U.S. security goals by improving the Czech Republic's ability to contribute to NATO efforts to secure the eastern flank of the Alliance and deter aggression in the region. It would also enhance the capabilities the Czech Republic could provide to NATO and coalition expeditionary operations.

The proposed sale of this equipment and support will not alter the basic military balance in the region.

The principal contractor will be L3Harris Global Communications, Inc., located in Rochester, NY. At this time, the U.S. Government is not aware of any offset agreement proposed in connection with this potential sale. Any offset agreement will be defined in negotiations between the purchaser and the contractor.

Implementation of this proposed sale will not require the assignment of any additional U.S. Government or contractor representatives to the Czech Republic.

There will be no adverse impact on U.S. defense readiness as a result of this proposed sale.

Transmittal No. 25-23

Notice of Proposed Issuance of Letter of Offer Pursuant to Section 36(b)(1) of the Arms Export Control Act

Annex

Item No. vii

(vii) Sensitivity of Technology:

1. The AN/PYQ-10A(C) simple key loader's (SKL) latest production version is called the SKL V3.1 and offers improved fill port ruggedization, an enhanced brightness/contrast LCD, and a touchscreen interface that supports both finger and stylus input. The AN/PYQ-10A (C) V3.1 SKL provides a secure means of distribution and storage of COMSEC material, mission data, and configuration files and continues to be compatible with a multitude of cryptographic systems.

2. The Falcon III AN/PRC-160(V) is the smallest, lightest, fastest, Type 1-certified manpack radio available today. Engineered for advanced security and performance, the wideband high frequency very high frequency tactical radio system features industry-leading encryption and breakthrough data performance and interoperability.

3. The AN/PRC-163 multi-channel handheld radio is a versatile, secure solution that leverages crossbanding to provide simultaneous data & voice across satellite communications (SATCOM), line-of-sight, and mobile ad-hoc networking (MANET) modes. As mission needs evolve, this software-defined handheld supports fast, in-field updates to new capabilities. An external mission module hardware interface allows warfighters to quickly add options including intelligence, surveillance, and reconnaissance (ISR) video and SATCOM.

4. The AN/PRC-167 harnesses the power of multiple tactical devices converged into a single manpack. The radio provides superior communications range extension, allowing for real-time situational awareness updates. Engineered to meet multi-domain challenges of any combination of ground, vehicular and airborne missions, the manpack simultaneously and independently runs a full frequency range of waveforms on each of two channels. As mission needs evolve, this software-defined manpack radio supports fast, in-field updates to new capabilities.

5. The RF300M-DL(C) small secure data link (SSDL) is a single-channel, easily embedded tactical radio with a reduced size, weight, and power (SWaP) engineered to meet challenging requirements in a variety of platforms, including ground vehicles, helicopters, and Unmanned Aerial Vehicles (UAVs). The SSDL provides multiband, multi-mode networking capabilities, ideal for warfighters on the tactical edge, allowing them to switch networks and waveforms on-the-move for real-time battle intelligence.

6. The highest level of classification of defense articles, components, and services included in this potential sale is SECRET.

7. If a technologically advanced adversary were to obtain knowledge of the specific hardware and software elements, the information could be used to develop countermeasures that might reduce system effectiveness or be used in the development of a system with similar or advanced capabilities.

8. A determination has been made that the Czech Republic can provide substantially the same degree of protection for the sensitive technology being released as the U.S. Government. This sale is necessary in furtherance of the U.S. foreign policy and national security objectives outlined in the Policy Justification.

9. All defense articles and services listed in this transmittal have been authorized for release and export to the Government of Czech Republic.

[FR Doc. 2026-00714 Filed 1-14-26; 8:45 am]

BILLING CODE 6001-FR-P